DEPARTMENT OF COMMERCE

International Trade Administration

[A-201-848]

Emulsion Styrene-Butadiene Rubber from Mexico: Final Results of Antidumping Duty Administrative Review, Final Determination of No Shipments, and Partial Rescission; 2021-2022

AGENCY: Enforcement and Compliance, International Trade Administration, Department of Commerce.

SUMMARY: The U.S. Department of Commerce (Commerce) determines that Industrias Negromex S.A. de C.V. (Negromex) did not make sales of emulsion styrene-butadiene rubber (ESB rubber) from Mexico at less than normal value during the period of review (POR), September 1, 2021, through August 31, 2022. Commerce also determines that Dynasol Elastomeros, S.A. de C.V. (Dynasol Elastomeros) had no shipments during the POR. Additionally, we are rescinding this review with respect to Dynasol LLC (Dynasol).

DATES: Applicable February 13, 2024.

FOR FURTHER INFORMATION CONTACT: Christopher Maciuba, AD/CVD Operations, Office V, Enforcement and Compliance, International Trade Administration, Department of Commerce, 1401 Constitution Avenue NW, Washington, DC 20230; telephone: (202) 482-0413.

SUPPLEMENTARY INFORMATION:

Background

On October 10, 2023, Commerce published the Preliminary Results and invited interested parties to comment.¹ No interested party submitted comments on the Preliminary Results. Accordingly, the final results remain unchanged from the Preliminary Results. Commerce conducted this review in accordance with section 751 of the Tariff Act of 1930, as amended (the Act).

¹ See Emulsion Styrene-Butadiene Rubber from Mexico: Preliminary Results of Antidumping Duty Administrative Review, Preliminary Determination of No Shipments, and Notice of Intent to Rescind, in Part; 2021-2022, 88 FR 69907 (October 10, 2023) (Preliminary Results), and accompanying Preliminary Decision Memorandum.

Scope of the Order ²

² See Emulsion Styrene-Butadiene Rubber from Brazil, the Republic of Korea, Mexico, and Poland: Antidumping Duty Orders, 82 FR 42790 (September 12, 2017) (Order).

The merchandise covered by the Order is ESB rubber from Mexico. For a complete description of the scope of the Order, see the Preliminary Decision Memorandum.

Rate for Companies Not Selected for Individual Examination

The Act and Commerce's regulations do not address the establishment of a rate to be applied to companies not selected for individual examination when Commerce limits its examination in an administrative review pursuant to section 777A(c)(2) of the Act. Generally, Commerce looks to section 735(c)(5) of the Act, which provides instructions for calculating the all-others rate in an investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

However, pursuant to section 735(c)(5)(B) of the Act, if the estimated weighted-average dumping margins established for all exporters and producers individually examined are zero, de minimis, or determined based entirely on facts otherwise available, Commerce may use any reasonable method to establish the estimated weighted-average dumping margin for all other producers or exporters.

For these final results, we continue to determine that the weighted-average dumping margin for Negromex is zero percent. Therefore, we are applying a rate of zero percent to the companies not selected for individual examination in accordance with section 735(c)(5)(B) of the Act.

Final Determination of No Shipments

In the Preliminary Results, Commerce determined that Dynasol Elastomeros did not have suspended entries of subject merchandise during the POR.³ No parties commented on Commerce's preliminary no-shipment determination. Therefore, for these final results, we continue to determine that Dynasol Elastomeros had no shipments of subject merchandise during the POR.

³ See Preliminary Results, 88 FR at 69907-08.

Partial Rescission

In the Preliminary Results, we notified parties of our intent to rescind this administrative review for Dynasol, as it is a U.S. importer and is, therefore, not eligible for review.⁴ Because we continue to find that Dynasol is not eligible for review, we are rescinding this review with respect to Dynasol.

⁴ Id., 88 FR at 69908.

Final Results of the Review

We determine that the following weighted-average dumping margins exist for the POR, September 1, 2021, through August 31, 2022:

Exporter/producer | Weighted- average dumping margin (percent)
Industrias Negromex S.A. de C.V | 0.00
Continental Tire de Mexico S.A. de C.V | 0.00
Hyundai Glovis Mexico, S. de R.L. de C.V | 0.00
Pirelli Neumaticos, S.A. de C.V | 0.00

Disclosure

Because Commerce received no comments on the Preliminary Results, we have not modified our analysis and no decision memorandum accompanies this Federal Register notice. We are adopting the Preliminary Results as the final results of this review. Consequently, there are no new calculations to disclose in accordance with 19 CFR 351.224(b) for these final results.

Assessment Rates

Pursuant to section 751(a)(2)(A) of the Act and 19 CFR 351.212(b)(1), Commerce will determine, and U.S. Customs and Border Protection (CBP) shall assess, antidumping duties on all appropriate entries of subject merchandise in accordance with the final results of this review. For Negromex, because its weighted-average dumping margin is zero, we will instruct CBP to liquidate entries reported in this review without regard to antidumping duties. Consistent with Commerce's assessment practice, for entries of subject merchandise during the POR produced by Negromex for which it did not know its merchandise was destined for the United States, we will instruct CBP to liquidate unreviewed entries at the all-others rate if there is no rate for the intermediate company(ies) involved in the transaction.⁵

⁵ For a full discussion of this practice, see Antidumping and Countervailing Duty Proceedings: Assessment of Antidumping Duties, 68 FR 23954 (May 6, 2003).

For the companies which were not selected for individual examination, we will instruct CBP to liquidate the appropriate entries without regard to antidumping duties. Further, because we continue to find that Dynasol Elastomeros had no shipments of subject merchandise during the POR, we will instruct CBP to liquidate any suspended entries of subject merchandise associated with Dynasol Elastomeros at the all-others rate. For Dynasol, for which this administrative review is rescinded, antidumping duties shall be assessed at a rate equal to the cash deposit of antidumping duties required at the time of entry, or withdrawal from warehouse, for consumption, in accordance with 19 CFR 351.212(c)(1)(i).

Commerce intends to issue assessment instructions to CBP no earlier than 41 days after the date of publication of the final results of this review in the Federal Register, in accordance with 19 CFR 356.8(a).

Cash Deposit Requirements

The following cash deposit requirements for estimated antidumping duties will be effective for all shipments of subject merchandise entered, or withdrawn from warehouse, for consumption on or after the publication date of the final results of this administrative review in the Federal Register, as provided by section 751(a)(2)(C) of the Act: (1) the cash deposit rate for the companies under review will be zero; (2) for merchandise exported by a producer or exporter not covered in this review but covered in a prior completed segment of the proceeding, the cash deposit rate will continue to be the company-specific rate published for the most recently-completed segment of this proceeding; (3) if the exporter is not a firm covered in this review, a prior review, or the original less-than-fair-value (LTFV) investigation, but the producer has been covered in a completed segment of this proceeding, the cash deposit rate will be the company-specific rate established for the most recent period for the producer of the merchandise; (4) the cash deposit rate for all other producers or exporters will continue to be 19.52 percent,⁶ the all-others rate established in the LTFV investigation. These cash deposit requirements, when imposed, shall remain in effect until further notice.

⁶ See Order, 82 FR at 42791.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a final reminder to parties subject to an administrative protective order (APO) of their responsibility concerning the disposition of proprietary information disclosed under APO in accordance with 19 CFR 351.305(a)(3). Timely written notification of the return or destruction of APO materials, or conversion to judicial protective order, is hereby requested. Failure to comply with the regulations and terms of an APO is a sanctionable violation.

Notification to Interested Parties

We are issuing and publishing this notice in accordance with sections 751(a)(1) and 777(i) of the Act, and 19 CFR 351.221(b)(5) and 19 CFR 351.213(h)(1).

Dated: February 6, 2024.
Ryan Majerus,
Deputy Assistant Secretary for Policy and Negotiations, performing the non-exclusive functions and duties of the Assistant Secretary for Enforcement and Compliance.

[FR Doc. 2024-02915 Filed 2-12-24; 8:45 am]

BILLING CODE 3510-DS-P